POSTAL SERVICE

39 CFR Part 111

Mailing Requirement Changes for Parcel Select

AGENCY: Postal Service™.

ACTION: Proposed rule.

SUMMARY: This proposal would revise Mailing Standards of the United States Postal Service, Domestic Mail Manual (DMM®) to reflect changes to the mailing requirements of our Shipping Services product, Parcel Select®, by requiring new markings on BMC-Presort or OBMC-Presort (Inter-BMC), and origin-entered Barcoded Intra-BMC and Barcoded Inter-BMC packages.

DATES: We must receive your comments on or before June 20, 2008.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC between 9 a.m. and 4 p.m., Monday through Friday.

FOR FURTHER INFORMATION CONTACT: Bert Olsen at 202-268-7276.

SUPPLEMENTARY INFORMATION: Parcel Select has been redefined as a Shipping Services product using permit imprint or metered postage when mailing 50 pieces or more. In addition to destination-entered packages, Parcel Select will include BMC-Presort or OBMC-Presort (Inter-BMC), and origin-entered Barcoded Intra-BMC and Barcoded Inter-BMC packages. To support the expanded product make-up and the separation of Parcel Select from Parcel Post®, effective September 30, 2008, the “Parcel Post” marking will not be allowed on any Parcel Select package. We encourage shippers to begin using the following markings as soon as possible, but no later than September 30, 2008:

• Destination Entry—“Parcel Select.”

• BMC—“Parcel Select BMC Presort” or “Parcel Select BMC PRSRT”

• OBMC Presort (Inter-BMC)—“Parcel Select OBMC Presort” or “Parcel Select OBMC PRSRT”.

• Barcoded Intra-BMC and Barcoded Inter-BMC—“Parcel Select Barcoded” or “Parcel Select BC”.

Although we are exempt from the notice and comment requirements of the Administrative Procedure Act [5 U.S.C. of 553(b), (c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

Mailing Standards of the United States Postal Service, Domestic Mail Manual (DMM)

* * * * *

400 Commercial Parcels

* * * * *

402 Elements on the Face of a Mailpiece

2.0 Placement and Content Markings

* * * * *

2.2 Parcel Select, Bound Printed Matter, Media Mail, and Library Mail Markings

2.2.1 Basic Markings

[Revise the text of 2.2.1 as follows:]

* * * * *

The basic required marking (see 2.2.2) must be printed on each piece claimed at the respective price. The basic required marking must be placed in the postage area (i.e., printed or produced as part of, or directly below or to the left of, the permit imprint indicia or meter stamp or impression). Optionally, the basic required marking may be printed on the shipping address label as service indicators composed of a service icon and service banner (see Exhibit 2.2.1):

a. The service icon that identifies the marking will be a 1-inch solid black square. If the service icon is used, it must appear in the upper left corner of the shipping label.

b. The service banner must appear directly below the postage payment area and the service icon, and it must extend across the shipping label. If the service banner is used, the appropriate subclass marking (e.g., “PARCEL SELECT”, “MEDIA MAIL”) must be preceded by the text “USPS” and must be printed in minimum 20-point bold sans serif typeface, uppercase letters, centered within the banner, and bordered above and below by minimum 1-point separator lines. There must be a 1/16-inch clearance above and below the text.

[Revise the heading of Exhibit 2.2.1 from Package Services Indicator Examples to “Marking Indicator Examples” as follows:]

Exhibit 2.2.1 Marking Indicator Examples

[Revise Exhibit 2.2.1 by replacing “USPS PARCEL POST” with “USPS PARCEL SELECT”.]

[Delete 2.2.2 and renumber current 2.2.3 through 2.2.6 as 2.2.2 through 2.2.5 and revise the heading of new 2.2.2 as follows:]

2.2.2 Parcel Select Markings

[Revise the text in 2.2.2 as follows:]

Each piece in a Parcel Select mailing must bear a price marking. Markings must appear in either the postage area described in 2.2.1 or in the address area on the line directly above or two lines above the address if the marking appears alone (i.e., if no other information appears on that line). One of the following product markings will be required:

a. Destination Entry—“Parcel Select”.

b. BMC—“Parcel Select BMC Presort” or “Parcel Select BMC PRSRT”.

c. OBMC Presort (Inter-BMC)—“Parcel Select OBMC Presort” or “Parcel Select OBMC PRSRT”.

d. Barcoded Intra-BMC and Barcoded Inter-BMC—“Parcel Select Barcoded” or “Parcel Select BC”.

* * * * *

Neva R. Watson,
Attorney, Legislative.

[FR Doc. E8-11210 Filed 5-20-08; 8:45 am]

BILLING CODE 7710-12-P